DEPARTMENT OF HOUSING AND URBAN DEVELOPMENT

[Docket No. FR-5382-N-01]

Notice of Proposed Information Collection for Public Comment: Tracking the Use of CDBG Homeowner and Small Landlord Disaster Assistance Grants

AGENCY: Office of Policy Development and Research, HUD.

ACTION: Notice.

SUMMARY: The proposed information collection requirement described below will be submitted to the Office of Management and Budget (OMB) for review, as required by the Paperwork Reduction Act. The Department is soliciting public comments on the subject proposal.

DATES: Comment Due Date: March 29, 2010.

ADDRESSES: Interest persons are invited to submit comments regarding this proposal. Comments should refer to the proposal by name and should be sent to: Reports Liaison Officer, Office of Policy Development and Research, Department of Housing and Urban Development, 451 7th Street, SW., Room 8226, Washington, DC 20410.

FOR FURTHER INFORMATION CONTACT: Cheryl A. Levine, PhD, Department of Housing and Urban Development, 457 7th Street, SW., Washington, DC 20410; telephone (202) 402-3928 (this is not a toll-free number). Copies of the proposed data collection and other available documents may be obtained from Dr. Levine.

SUPPLEMENTARY INFORMATION: This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, such as permitting electronic submission of responses.

Title of Proposal: Tracking the Use of Homeowner and Small Landlord Disaster Assistance Grants.

Description of the need for the information and proposed use: In August, September, and October 2005, Hurricanes Katrina, Rita, and Wilma caused massive devastation in the Gulf region. As of February 2006, FEMA estimated that more than 300,000 homes suffered major or severe damage from the storm. In response to the widespread destruction caused by these three storms, Congress appropriated $19.7 billion in supplemental Community Development Block Grant (CDBG) program funds for Gulf Coast disaster recovery. Created in 1974, CDBG is one of the oldest programs administered by the Department of Housing and Urban Development (HUD), providing funding to States, cities, and counties nationwide to support neighborhood revitalization, housing rehabilitation, and economic development activities. The purpose of this study is to evaluate the role that supplemental CDBG disaster recovery funding has played in housing recovery in the three States most affected by hurricanes Katrina and Rita (Louisiana, Mississippi, and Texas) and to identify the most important factors affecting property owners' willingness and ability to rebuild or repair their storm-damaged properties. The results of the study will help HUD use current allocations of CDBG funds to make better progress on Katrina and Rita rebuilding efforts during FY 2011. The study findings also will help the Federal government respond more effectively to future disasters.

Members of affected public: Members of the following groups selected by random sampling: homeowners and small landlords from a sample of 230 blocks selected from among the 15,399 blocks that FEMA estimates have been significantly affected by the 2005 hurricanes in Louisiana, Mississippi, and Texas.

Estimation of the total number of hours needed to prepare the information collection, including the number of respondents, frequency of response, and hours of response: The researchers will survey a random sample of homeowners and small landlords; 984 participants will be surveyed in all; the surveys are expected to last 45 minutes. This constitutes a total burden hour estimate of 44,280 burden hours.

Status of the proposed information collection: Pending OMB approval.

Authority: Section 3506 of the Paperwork Reduction Act of 1995, 44 U.S.C. Chapter 35, as amended.

Dated: January 7, 2010.
Raphael W. Bostic,
Assistant Secretary for Policy Development and Research.

[FR Doc. 2010-1424 Filed 1-25-10; 8:45 am]

BILLING CODE P